DEPARTMENT OF COMMERCE

National Oceanic and Atmospheric Administration

50 CFR Part 679

[Docket No. 250915-0155]

RIN 0648-BL49

Fisheries of the Exclusive Economic Zone Off Alaska; Modify the Timing of Haul Designation for Trawl Catcher Processors in the Gulf of Alaska and Bering Sea and Aleutian Islands Groundfish Fisheries

AGENCY: National Marine Fisheries Service (NMFS), National Oceanic and Atmospheric Administration (NOAA), Commerce.

ACTION: Proposed rule; request for comments.

SUMMARY: NMFS proposes to revise regulations to standardize the time limit in which trawl catcher/processors (C/Ps) participating in the groundfish fisheries in the Gulf of Alaska (GOA) and the Bering Sea and Aleutian Islands (BSAI) management areas must assign a management program to each haul. This proposed rule is necessary to improve consistency for when trawl C/Ps are required to assign a specific management program to a haul. It would also allow additional time for vessel operators participating in the Western Alaska Community Development Quota (CDQ) and non-CDQ fisheries on the same trip to determine which management program to assign to a haul. This rule is intended to promote the goals and objectives of the Magnuson-Stevens Fishery Conservation and Management Act (Magnuson-Stevens Act), the Fishery Management Plans (FMPs) for Groundfish of the GOA and BSAI Management Areas, and other applicable laws.

DATES: Submit comments on or before November 3, 2025.

ADDRESSES: A plain language summary of this proposed rule is available at https://www.regulations.gov/docket/NOAA-NMFS-2024-0154. You may submit comments on this document, identified by NOAA-NMFS-2024-0154, by any of the following methods:

• Electronic Submission: Submit all electronic public comments via the Federal e-Rulemaking Portal. Visit https://www.regulations.gov and type NOAA-NMFS-2024-0154 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of the draft Regulatory Impact Review (referred to as the “Analysis”) and categorical exclusion prepared for this proposed rule may be obtained from https://www.regulations.gov.

Written comments regarding the burden-hour estimates or other aspects of the collection-of-information requirements contained in this proposed rule may be submitted to NMFS at the above address and to https://www.reginfo.gov/public/do/PRAMain. Find this particular information collection by selecting “Currently under 30-day Review—Open for Public Comments” or by using the search function.

FOR FURTHER INFORMATION CONTACT: Caleb Taylor, caleb.taylor@noaa.gov, 907-586-7228.

SUPPLEMENTARY INFORMATION:

Authority for Action

NMFS manages the groundfish fisheries in the exclusive economic zone under the GOA FMP and under the BSAI FMP. The North Pacific Fishery Management Council (Council) prepared and recommended these FMPs under the authority of the Magnuson-Stevens Act, 16 U.S.C. 1801 et seq. Regulations governing U.S. fisheries and implementing the FMPs for groundfish of the GOA and BSAI appear at 50 CFR parts 600 and 679. This action is implemented under Magnuson-Stevens Act section 305(d) and is necessary to carry out Section 3.9.1 of both the BSAI FMP and GOA FMP, which describes the Council's recommended approach to recordkeeping and reporting requirements. This section of both FMPs states that in consultation with the Council, the Secretary of Commerce may require recordkeeping that is necessary and appropriate to determine catch, production, effort, price, and other information necessary for conservation and management of the fisheries. The FMPs also state that the Secretary should amend regulations as necessary to accomplish the goals and objectives of the FMPs, the Magnuson-Stevens Act, and other applicable laws, consistent with Magnuson-Stevens Act section 305(d) (16 U.S.C. 1855(d)). This action modifies recordkeeping and reporting requirements that are necessary to attribute catch to specific fishery management programs implemented under the BSAI and GOA FMPs.

Background

Trawl C/Ps are large vessels, ranging in length from 90 ft (27.43 meters (m)) to over 350 ft (106.68 m) length overall (LOA) that use trawl gear to harvest catch and then process that catch at sea. In 2024, 30 trawl C/Ps fished for groundfish in the Exclusive Economic Zone off Alaska, participating in the Amendment 80 Program, American Fisheries Act Program (AFA), Central GOA Rockfish Program (Rockfish Program), Aleutian Islands Pollock Program (AIP), open access fisheries, and the CDQ Program. Recordkeeping and reporting requirements necessary to attribute catch to specific fishery management programs are specified at § 679.5 and summarized in Section 2.1.1 of the Analysis (See ADDRESSES).

Logbook requirements for trawl C/Ps have evolved over time, beginning with the use of a paper daily cumulative production logbook (DCPL) followed by development and use of a NMFS-approved electronic logbook (ELB) (§ 679.5(f)). If active, the operator of a trawl C/P using a NMFS-approved ELB must enter all information into its NMFS-approved ELB that is required be entered into a DCPL (§ 679.5(c)(4), (c)(6)), subject to the same recording time limits for DCPLs (§ 679.5(f)(2)(iii)(B)(1)).

The CDQ Program was established to provide eligible western Alaska villages with the opportunity to participate and invest in fisheries in the BSAI, to support economic development in western Alaska, to alleviate poverty and provide economic and social benefits for residents of western Alaska, and to achieve sustainable and diversified local economies in western Alaska (16 U.S.C. 1855(i)). The Council and NMFS have implemented additional amendments over time to provide flexibility and better meet the objectives of the CDQ Program.

The regulatory text at § 679.5(c)(4)(ii)(B)(2) was changed in the final rule to implement amendment 91 to the BSAI FMP (75 FR 53026, August 30, 2010). As part of that final rule, the time limit for recording the CDQ number (§ 679.2 “CDQ number”) to a haul was changed for operators of C/Ps, catcher vessels delivering to motherships, and motherships. Namely, operators were required to record the CDQ number within 2 hours after completion of weighing on the scale all catch in the haul (§ 679.5(c)(4)(ii)(B)(2)). By contrast, under current regulations at § 679.5(c)(4)(ii)(B)(1), trawl C/P's time limit for assigning a management program to each non-CDQ program haul is within 2 hours after completion of gear retrieval.

As a result, under current regulations, the CDQ Program hauls and non-CDQ program hauls have separate time limits for when the management program code needs to be reported. This timing discrepancy creates potential confusion for trawl C/P vessel operators participating in both CDQ Program and non-CDQ program fishing on the same fishing trip, and does not allow trawl C/Ps adequate time to assess haul species composition before assigning a haul to a non-CDQ program. This action would revise § 679.5(c)(4)(ii)(B)(1) and (2) to state that a trawl C/P haul must be assigned to a management program, including the CDQ Program (specifying CDQ number if applicable), no later than 2 hours after all catch in the haul has been weighed.

The requirement at § 679.5(c)(4)(ii)(B)(1) to record the management program for non-CDQ program hauls within 2 hours after completion of gear retrieval means that, if this logbook field is left blank after that time passes, the haul could be interpreted as assigned to a CDQ Program by default. Although § 679.5(c)(4)(ii)(B)(2) allows more time for the vessel operator to record the CDQ number, a default assignment of hauls to the CDQ Program after 2 hours of gear retrieval does not provide the CDQ groups and their industry partners the additional time needed to assess haul species composition to determine whether a haul should be assigned to the CDQ Program or to a non-CDQ management program.

In April 2019, the Council requested that NMFS review reporting time limits for trawl C/Ps and clarify that trawl C/Ps must designate the management program and/or CDQ number within 2 hours after all catch in the net has been weighed. As a result of this review, NMFS is now proceeding with this proposed rule.

Proposed Rule

This proposed rule would do the following: (1) modify when a management program must be reported for each trawl C/P haul; and (2) align the timing requirements for reporting a management program for each haul across all management programs.

To accomplish this, this proposed rule would revise § 679.5(c)(4)(ii)(B) to allow trawl C/P operators to assign hauls to any management program in the GOA and BSAI management areas at the same time. Language on when a haul must be designated to a non-CDQ management program would be removed from § 679.5(c)(4)(ii)(B)(1). Language would be removed from § 679.5(c)(4)(ii)(B)(2) regarding CDQ number, as it is duplicative given that § 679.5(a)(1)(iii) requires that the CDQ number must be recorded where harvest under the CDQ program occurs. Language would be added to § 679.5(c)(4)(ii)(B)(2) applying the same haul designation reporting timing requirement to all management programs. This action would shift the timing of when a non-CDQ management program code must be reported from within 2 hours after completion of gear retrieval to within 2 hours after completion of weighing all catch in the haul. This change would apply to all trawl C/P fishing activity in all applicable fishery management programs off Alaska. This proposed rule does not modify regulations governing the required reporting method or other reporting requirements specified at § 679.5.

The Expected Effects of and Need for This Action

This action is a technical change to reporting requirements that is intended to revise and standardize when all trawl C/Ps must assign a management program to each haul. This would remove any ambiguity as to when a haul is considered to be assigned to the CDQ Program versus other management programs, and would align regulations to apply the same time limit for assigning a haul to a specific management program across all management programs.

Impacts of this proposed rule are expected to be neutral or minimally beneficial because all trawl C/P operators would be subject to the same time limit for assigning a haul to a specific management program across all management programs and because all trawl C/P operators would have more time to report the management program for each haul. This proposed action does not place any new regulatory burden on groundfish fishery participants and would only change when reporting must be completed, not the required reporting method.

Classification

NMFS is issuing this rule pursuant to section 305(d) of the Magnuson-Stevens Act. Following previous actions taken by the Council and transmitted to NMFS under section 304(b), the FMP authorizes NMFS to take this action pursuant to section 305(d) of the Magnuson-Stevens Act. The NMFS Assistant Administrator has determined that this proposed rule is consistent with the GOA and BSAI FMPs and other applicable laws, subject to further consideration after public comment.

This proposed rule has been determined to be not significant for the purposes of Executive Order 12866.

This proposed rule is not an Executive Order 14192 regulatory action because this rule is not significant under Executive Order 12866.

Regulatory Impact Review (RIR)

An RIR was prepared to assess costs and benefits of available regulatory alternatives. A copy of this analysis is available from NMFS (see ADDRESSES). NMFS is recommending the regulatory revisions in this proposed rule based on those measures that maximized net benefits to the Nation.

Certification Under the Regulatory Flexibility Act

The Chief Counsel for Regulation of the Department of Commerce certified to the Chief Counsel for Advocacy of the Small Business Administration that this proposed rule, if adopted, would not have a significant economic impact on a substantial number of small entities. NMFS requests comments on this certification for this proposed rule. The factual basis for this determination is as follows.

This proposed rule would revise and standardize the time limit for assigning a management program to each haul for trawl C/Ps. Entities that would be directly regulated by this proposed rule include open access fisheries participants and participants of the following limited access programs: AFA, AIP, Amendment 80, CDQ Program, and the Rockfish Program. Within these programs, there was an average of 34 active vessels participating as trawl C/Ps from 2016 to 2024, of which one is considered a small entity. The owners and operators of these vessels would be directly regulated by this proposed rule, however there would only be one directly regulated small entity.

The proposed provisions would create standardized haul reporting time limits while increasing the time period for assigning a haul to a management program, providing increased flexibility to all directly-regulated entities. Therefore, no directly-regulated entities are expected to be adversely impacted by the proposed action. Potential impacts of this proposed rule are expected to be neutral or minimally beneficial as the time to assign hauls to a management program would be consistent across all management programs and more time would be allowed to assign hauls to a management program. As described above, this action would not place any new regulatory burden on groundfish fishery participants. Instead, this action would increase consistency and flexibility for C/P trawl participants by allowing them to assign hauls to any management program in the GOA and BSAI FMP management areas in the same reporting time limit: within 2 hours after completion of weighing all catch in the haul. For the reasons described above, this proposed action is not expected to have a significant economic impact on a substantial number of the small entities directly regulated by this proposed action. As a result, an initial regulatory flexibility analysis is not required, and none has been prepared.

Collection-of-Information Requirements

This proposed rule contains collection-of-information requirements subject to review and approval by the Office of Management and Budget (OMB) under the Paperwork Reduction Act (PRA). This proposed rule revises the existing requirements for the collection of information for OMB Control Number 0648-0515 (Alaska Interagency Electronic Reporting System).

This information collection would be revised because this proposed rule would change the reporting time limit for when the operator of a C/P using trawl gear must report the management program to within 2 hours after completion of weighing all catch in the haul. This rule does not change the data required to be collected submitted in the ELB. The timing change does not change the number of respondents or responses for this logbook and is not expected to change its time or cost burdens. Therefore, subject to public comment, no change is made to the estimated reporting or cost burdens for the C/P eLogbook.

Public reporting burden per individual response for the C/P eLogbook is estimated to average 15 minutes, including the time for reviewing instructions, searching existing data sources, gathering and maintaining the data needed, and completing and reviewing the collection of information.

Public Comment on Collection-of-Information Requirements

Public comment is sought regarding the following: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information at https://www.reginfo.gov/public/do/PRAMain.

Notwithstanding any other provisions of law, no person is required to respond to, and no person shall be subject to penalty for failure to comply with, a collection of information subject to the requirements of the PRA, unless that collection of information displays a currently valid OMB control number.

List of Subjects in 50 CFR Part 679

Alaska, Fisheries, Reporting and recordkeeping requirements.

Dated: September 15, 2025.
Samuel D. Rauch, III,
Deputy Assistant Administrator for Regulatory Programs, National Marine Fisheries Service.

For reasons set out in the preamble, NMFS proposes to amend 50 CFR part 679 as follows:

PART 679—FISHERIES OF THE EXCLUSIVE ECONOMIC ZONE OFF ALASKA

1. The authority citation for 50 CFR part 679 continues to read as follows:

Authority: 16 U.S.C. 773 et seq.; 1801 et seq.; 3631 et seq.; Pub. L. 108-447; Pub. L. 111-281.

2. In § 679.5, revise paragraphs (c)(4)(ii)(B)(1) and (2) to read as follows:

§ 679.5 Recordkeeping and reporting (R&R).

* * * * *

(c) * * *

(4) * * *

(ii) * * *

(B) Catcher/processor. The operator of a catcher/processor using trawl gear must record in the DCPL or submit via eLandings the information in the following table for each haul within the specified time limit:

Reporting Time Limits, Catcher/Processor Trawl Gear
Required information | Record in DCPL | Submit via eLandings | Time limit for recording
(1) Haul number, time and date gear set, time and date gear hauled, begin and end positions of gear, and, if not required to weigh catch on a scale approved by NMFS, total estimated hail weight for each haul | X |  | Within 2 hours after completion of gear retrieval.
(2) Management program and, if required to weigh catch on a scale approved by NMFS, the scale weight of total catch for each haul | X |  | Within 2 hours after completion of weighing all catch in the haul.
* * * * * * *

* * * * *

[FR Doc. 2025-19385 Filed 10-1-25; 8:45 am]

BILLING CODE 3510-22-P